DEPARTMENT OF COMMERCE

National Oceanic and Atmospheric Administration

50 CFR Part 679

[Docket No. 020718172-2303-02; I.D. 043003A]

Fisheries of the Exclusive Economic Zone Off Alaska; Chiniak Gully Research Area Opening for the Groundfish Trawl Fisheries of the Gulf of Alaska

AGENCY: National Marine Fisheries Service (NMFS), National Oceanic and Atmospheric Administration (NOAA), Commerce.

ACTION: Inseason adjustment; request for comments.

SUMMARY: The Administrator, Alaska Region, NMFS (Regional Administrator) proposes to open the Chiniak Gully Research Area in the Gulf of Alaska (GOA) to directed fishing for groundfish using trawl gear from August 1, 2003, through September 20, 2003. NMFS' Alaska Fisheries Science Center (AFSC) will not conduct research in this area in 2003. Therefore, the closure of the Chiniak Gully Research Area is not needed. This action is intended to relieve an unnecessary restriction on groundfish trawl fisheries and allow the optimum utilization of fishery resources, in accordance with the Magnuson-Stevens Fishery Conservation and Management Act (Magnuson-Stevens Act).

DATES: Comments must be received at the following address no later than 4:30 p.m., A.l.t., June 6, 2003.

ADDRESSES: Comments may be mailed to Sue Salveson, Assistant Regional Administrator, Sustainable Fisheries Division, Alaska Region, NMFS, P.O. Box 21668, Juneau, AK 99802, Attn: Lori Durall, or delivered to room 401 of the Federal Building, 709 West 9th Street, Juneau, AK. Comments also may be sent via facsimile (fax) to 907-586-7557. Comments will not be accepted if submitted via e-mail or Internet. Courier or hand delivery of comments may be made to NMFS in the Federal Building, Room 453, Juneau, AK 99801. Copies of the environmental assessment/regulatory impact review/final regulatory flexibility analysis (EA/RIR/FRFA) for the regulatory amendment to permit an investigation of the effect of commercial fishing on Walleye pollock distribution and abundance in localized areas off the east side of Kodiak Island, may be obtained from the same address.

FOR FURTHER INFORMATION CONTACT: Melanie Brown, Sustainable Fisheries Division, Alaska Region, 907-586-7228 or email at melanie.brown@noaa.gov.

SUPPLEMENTARY INFORMATION: NMFS manages the groundfish fishery in the GOA exclusive economic zone according to the Fishery Management Plan for Groundfish of the Gulf of Alaska (FMP) prepared by the North Pacific Fishery Management Council (Council) and approved by the Secretary of Commerce under authority of the Magnuson-Stevens Fisheries Conservation and Management Act. Regulations governing fishing by U.S. vessels in accordance with the FMP appear at subpart H of 50 CFR part 600 and 50 CFR part 679.

Background

In April 2001, the Council endorsed a research project proposed by the AFSC in the Chiniak Gully off Kodiak Island to determine the effect of pollock fisheries on pollock school dynamics and the likelihood of localized depletions of Steller sea lion pollock prey. The research project requires the closure of the Chiniak Gully Research Area to trawl fishing from August 1 to no later than September 20 in the years 2001 through 2004. A detailed description of the research project is provided in the EA/RIR/FRFA. For copies of this document, please contact NMFS (see ADDRESSES). The trawl closure necessary for this research project was implemented by emergency interim rules in 2001 (66 FR 37167, July 17, 2001) and in 2002 (67 FR 956, January 8, 2002), and by final rule in 2003 (68 FR 204, January 2, 2003).

Pursuant to § 679.22(b)(3)(ii)(B), the Regional Administrator may rescind the trawl closure of the Chiniak Gully Research Area by publishing notification in the Federal Register prior to September 20. Because the AFSC will not be conducting research in the Chiniak Gully Research Area in 2003, the Regional Administrator is proposing to rescind the closure specified in § 679.22(b)(3)(ii)(A) for August 1, 2003, through September 20, 2003. The 2003 closure would unnecessarily restrict the trawl groundfish fisheries because no research will be conducted this year. Rescinding the 2003 trawl closure will allow vessels participating in groundfish trawl fisheries to harvest their total allowable catch amounts without the operational constraints imposed by the closure.

The effective date of this action would be August 1, 2003, through September 20, 2003.

Classification

This action responds to the best available information recently obtained from the AFSC. Without this inseason adjustment, NMFS could not allow directed fishing for groundfish using trawl gear in the Chiniak Gully Research Area from August 1 through September 20, unnecessarily restricting the groundfish trawl fisheries. Interested persons are invited to submit written comments on this action to the above address until June 6, 2003.This action is pursuant to § 679.22 and is exempt from review under Executive Order 12866.

Authority: 16 U.S.C. 1801 et seq.

Dated: May 2, 2003.
Bruce C. Morehead,
Acting Director, Office of Sustainable Fisheries, National Marine Fisheries Service.

[FR Doc. 03-11483 Filed 5-7-03; 8:45 am]

BILLING CODE 3510-22-S